DEPARTMENT OF VETERANS AFFAIRS

[OMB Control No. 2900-0458]

Agency Information Collection Activity Under OMB Review: Certification of School Attendance or Termination

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden, and it includes the actual data collection instrument.

DATES: Comments and recommendations for the proposed information collection should be sent within 30 days of publication of this notice by clicking on the following link www.reginfo.gov/public/do/PRAMain, select “Currently under Review—Open for Public Comments”, then search the list for the information collection by Title or “OMB Control No. 2900-0458.”

FOR FURTHER INFORMATION CONTACT:

VA PRA information: Maribel Aponte, 202-461-8900, vacopaperworkreduact@va.gov.

SUPPLEMENTARY INFORMATION:

Title: Certification of School Attendance or Termination (VA Form 21-8960).

OMB Control Number: 2900-0458 https://www.reginfo.gov/public/do/PRASearch.

Type of Review: Revision of a currently approved collection.

Abstract: VA compensation and pension programs require current information to determine eligibility for benefits. VA Form 21-8960 is used to solicit information that is needed to determine continued benefit eligibility for schoolchildren between the ages of 18 and 23. If the collection were not conducted or were conducted less frequently, VA would be unable to verify continued entitlement in a timely manner, and increased overpayments would result. No changes have been made to this form. The respondent burden has decreased due to the estimated number of receivables averaged over the past year.

An agency may not conduct or sponsor, and a person is not required to respond to a collection of information unless it displays a currently valid OMB control number. The Federal Register Notice with a 60-day comment period soliciting comments on this collection of information was published at Vol. 89 FR 35309, May 1, 2024.

Affected Public: Individuals or Households.

Estimated Annual Burden: 219 hours.

Estimated Average Burden per Respondent: 10 minutes.

Frequency of Response: One time.

Estimated Number of Respondents: 1,314.

Authority: 44 U.S.C. 3501 et seq.

Maribel Aponte,
VA PRA Clearance Officer, Office of Enterprise and Integration, Data Governance Analytics, Department of Veterans Affairs.

[FR Doc. 2024-14838 Filed 7-5-24; 8:45 am]

BILLING CODE 8320-01-P